FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202)-523-5793 or tradeanalysis@fmc.gov.

Agreement No.: 201446.

Agreement Name: CMA CGM/COSCO North Europe—USEC/USWC Service Agreement.

Parties: CMA CGM S.A.; COSCO SHIPPING Lines Co. Ltd.

Filing Party: Robert Magovern, Cozen O'Connor.

Synopsis: The Agreement authorizes CMA CGM to charter space to COSCO in the Trade between the ports in North Europe (United Kingdom, Netherlands, Germany, Belgium), ports in Central America and Caribbean (Panama, Colombia, Dominican Republic) and ports in U.S. East Coast on the one hand, and U.S. West Coast, on the other hand.

Proposed Effective Date: January 10, 2025.

Location: https://www2.fmc.gov/FMC.Agreements.Web/Public/AgreementHistory/88592.

Agreement No.: 201446-001.

Agreement Name: CMA CGM/COSCO North Europe—USEC/USWC Service Agreement.

Parties: CMA CGM S.A.; COSCO SHIPPING Lines Co. Ltd.

Filing Party: Robert Magovern, Cozen O'Connor.

Synopsis: The Amendment adds France to the geographic scope of the Agreement.

Proposed Effective Date: January 13, 2025.

Location: https://www2.fmc.gov/FMC.Agreements.Web/Public/AgreementHistory/88592.

Agreement No.: 201447.

Agreement Name: CMA CGM/COSCO/ONE/OOCL MED-USEC Vessel Sharing Agreement.

Parties: CMA CGM S.A.; COSCO SHIPPING Lines Co. Ltd.; Ocean Network Express Pte. Ltd.; and Orient Overseas Container Line Limited and OOCL (Europe) Limited (acting as a single party).

Filing Party: Joshua Stein, Cozen O'Connor.

Synopsis: The Agreement authorizes the Parties to charter and exchange space on one another's vessels and to coordinate and cooperate with respect to the Parties' transportation services and operations in the trade between, on the one hand, ports in the Mediterranean (Spain and Italy), and on the other hand, U.S. ports in the Atlantic coast range.

Proposed Effective Date: January 13, 2025.

Location: https://www2.fmc.gov/FMC.Agreements.Web/Public/AgreementHistory/88593.

Dated: January 17, 2025.
Alanna Beck,
Federal Register Alternate Liaison Officer.

[FR Doc. 2025-01586 Filed 1-22-25; 8:45 am]

BILLING CODE 6730-02-P